DEPARTMENT OF LABOR

Employment and Training Administration

[TA-W-56,401]

Neat Feet Hosiery, Inc., Stoneville, NC; Dismissal of Application for Reconsideration

Pursuant to 29 CFR 90.18(C) an application for administrative reconsideration was filed with the Director of the Division of Trade Adjustment Assistance for workers at Neat Feet Hosiery, Inc., Stoneville, North Carolina. The application contained no new substantial information which would bear importantly on the Department's determination. Therefore, dismissal of the application was issued.

TA-W-56,401; Neat Feet Hosiery, Inc. Stoneville, North Carolina (May 9, 2005)

Signed at Washington, DC, this 13th day of May 2005.
Timothy Sullivan,
Director, Division of Trade Adjustment Assistance.

[FR Doc. E5-2513 Filed 5-18-05; 8:45 am]

BILLING CODE 4510-30-P